DEPARTMENT OF TRANSPORTATION

Office of the Secretary

Notice of Applications for Certificates of Public Convenience and Necessity and Foreign Air Carrier Permits Filed Under Subpart B (Formerly Subpart Q) During the Week Ending December 13, 2014

AGENCY: Department of Transportation (DOT).

ACTION: Notice of Applications.

SUMMARY: The following Applications for Certificates of Public Convenience and Necessity and Foreign Air Carrier Permits were filed under Subpart B (formerly Subpart Q) of the Department of Transportation's Procedural Regulations (See 14 CFR 302. 201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0221.

Date Filed: December 10, 2014.

Due Date for Answers, Conforming Applications, or Motion to Modify Scope: December 31, 2014.

Description

Application of TransAsia Airways Corporation requesting an exemption and foreign a carrier permit authorizing it to engage in charter foreign air transportation of persons, property and mail from points behind Taiwan, via Taiwan and intermediate points, and any point or points in the United States, and beyond to the full extent permitted by the open skies Air Transport Agreement between the American Institute in Taiwan and the Taipei Economic and Cultural Representative Office of 1997; and other charters pursuant to the prior approval requirements set forth in the Department's regulations.

Docket Number: DOT-OST-2008-0222.

Date Filed: December 11, 2014.

Due Date for Answers, Conforming Applications, or Motion to Modify Scope: January 2, 2014.

Description

Application of euroAtlantic Airways-Transportes Aeros, S.A. requesting an exemption and amended foreign air carrier permit to provide scheduled foreign air transportation: (a) Foreign scheduled air transportation of persons, property and mail from any point or points behind any Member State of the European Union via any point or points in any Member State and via intermediate points to any point or points in the United States and beyond; (b) foreign scheduled air transportation of persons, property and mail between any point or points in the United States and any point or points in any member of the European Common Aviation Area; (c) foreign scheduled cargo air transportation between any point or points in the United States and any other point or points; (d) scheduled transportation consistent with any future, additional rights that may be granted to foreign air carriers of the Member States of the European Community.

Barbara J. Hairston,
Supervisory Dockets Officer, Docket Operations, Federal Register Liaison.

[FR Doc. 2015-04444 Filed 3-3-15; 8:45 am]

BILLING CODE 4910-9X-P